DEPARTMENT OF TRANSPORTATION

Federal Aviation Administration

Notice of Release From Conveyance Deed Obligations for Superior Municipal Airport, Superior, Pinal County, Arizona

AGENCY: Federal Aviation Administration, DOT.

ACTION: Notice of request to release airport land.

SUMMARY: The Federal Aviation Administration (FAA) proposes to rule and invites public comment on the application for a release of approximately 15.09 acres of airport property at Superior Municipal Airport, Superior, Pinal County, Arizona from all conditions contained in the Conveyance Deed since the parcel of land is not needed for airport purposes. The property will be sold for its fair market value and the proceeds used for an airport purpose. The reuse of the land for a roadway improvement project by the State of Arizona represents a compatible land use that will not interfere with the airport, thereby protecting the interests of civil aviation.

DATES: Comments must be received on or before March 19, 2015.

FOR FURTHER INFORMATION CONTACT: Comments on the request may be mailed or delivered to the FAA at the following address: Mike N. Williams, Manager, Airports District Office, Federal Register Comment, Federal Aviation Administration, Phoenix Airports District Office, 3800 N. Central Avenue, Suite 1025, Phoenix, Arizona 85012. In addition, one copy of the comment submitted to the FAA must be mailed or delivered to David E. Edwards, Right of Way Project Coordinator, Arizona Department of Transportation, 205 South 17th Avenue, MD 612E, Phoenix, Arizona 85007-3212.

SUPPLEMENTARY INFORMATION: In accordance with the Wendell H. Ford Aviation Investment and Reform Act for the 21st Century (AIR 21), Public Law 10-181 (Apr. 5, 2000; 114 Stat. 61), this notice must be published in the Federal Register 30 days before the Secretary may waive any condition imposed on a federally obligated airport by surplus property conveyance deeds or grant agreements.

The following is a brief overview of the request:

The Town of Superior, Pinal County, Arizona requested a release from the conditions contained in the Conveyance Deed for approximately 15.09 acres of airport land. The property is located on the north side of the airport adjacent to U.S. Highway 60. The land is presently unused and undeveloped. The land is needed for roadway improvements to U.S. Highway 60 that will encroach into airport property. The Town of Superior, Pinal County, Arizona agrees to the sale of the land to the State of Arizona, Department of Transportation, since the property is not needed for airport purposes. The conveyance will not impact the airport, while the project will aid traffic flow by the airport and to the Town of Superior. The sale price will be based on its appraised market value and the sale proceeds will be used for an airport purpose. The use of the property for a public roadway represents a compatible use that will not interfere with the airport. The airport will receive proper compensation, thereby serving the interests of civil aviation.

Issued in Hawthorne, California, on February 5, 2015.
Steven Oetzell,
Acting Manager, Safety and Standards, Airports Division, Western-Pacific Region.

[FR Doc. 2015-03140 Filed 2-13-15; 8:45 am]

BILLING CODE 4910-13-P